ENVIRONMENTAL PROTECTION AGENCY

[FRL-7814-9]

Public Water System Supervision Program Revision for the State of Colorado

AGENCY: Environmental Protection Agency (EPA).

ACTION: Notice.

SUMMARY: The State of Colorado has revised its Public Water System Supervision (PWSS) Primacy Program by adopting regulations for the Long Term One Enhanced Surface Water Treatment Rule (LT1), the Filter Backwash Recycling Rule (FBRR), the Lead and Copper Rule Minor Revisions (LCRMR), the Arsenic MCL Clarifications and updates to analytical methods that correspond to 40 CFR parts 141 and 142. Having determined that these revisions meet all pertinent requirements in the Safe Drinking Water Act (SDWA), 42 U.S.C. 300f et seq., and EPA's implementing regulations at 40 CFR parts 141 and 142, the EPA approves them.

Today's approval action does not extend to public water systems in Indian Country as that term is defined in 18 U.S.C. 1151. Please see Supplementary Information, Item B.

DATES: Any member of the public is invited to submit written comments and/or request a public hearing on this determination by October 18, 2004. Please see SUPPLEMENTARY INFORMATION, Item C, for information on submitting comments and requesting a hearing. If no hearing is requested or granted, then this action shall become effective October 18, 2004. If a public hearing is requested and granted, then this determination shall not become effective until such time following the hearing as the Regional Administrator (RA) issues an order affirming or rescinding this action.

ADDRESSES: Written comments and requests for a public hearing should be addressed to: Robert E. Roberts, Regional Administrator, c/o Robert Clement (8P-W-MS), U.S. EPA, Region 8, 999 18th Street, Suite 300, Denver, CO 80202-2466.

All documents relating to this determination are available for inspection at the following locations: (1) U.S. EPA, Region 8, Municipal Systems Unit, 999 18th Street (4th Floor), Denver, CO 80202-2466; (2) Colorado Department of Public Health and Environment (CDPHE), Drinking Water Section, 4300 Cherry Creek Drive South, Denver, CO.

FOR FURTHER INFORMATION CONTACT: Robert Clement, Municipal Systems Unit, EPA, Region 8 (8P-W-MS), 999 18th Street, Suite 300, Denver, CO 80202-2466, 303-312-6653.

SUPPLEMENTARY INFORMATION: EPA approved Colorado's application for assuming primary enforcement authority for the PWSS program, pursuant to section 1413 of the Safe Drinking Water Act (SDWA), 42 U.S.C. 300g-2, and 40 CFR part 142. CDPHE administers Colorado's PWSS primacy program.

A. Why Are Revisions to State Programs Necessary?

States with primary PWSS enforcement authority must comply with the requirements of 40 CFR part 142 for maintaining primacy. They must adopt regulations that are at least as stringent as the National Primary Drinking Water Regulations (NPDWRs) at 40 CFR part 141 (40 CFR 142.10(a)). Changes to state programs may be necessary as federal primacy requirements change, as states must adopt all new and revised NPDWRs in order to retain primacy (40 CFR 142.12(a)).

B. How Does Today's Action Affect Indian Country (18 U.S.C. 1151) in Colorado?

Colorado is not authorized to carry out its PWSS program in Indian Country, as that term is defined at 18 U.S.C. 1151. Indian Country includes, but is not limited to, all land within the exterior boundaries of any Indian Reservations located within or abutting the State of Colorado, including the Southern Ute Indian Reservation and the Ute Mountain Ute Indian Reservation, any land held in trust by the United States for an Indian Tribe.

C. Requesting a Hearing and Submitting Written Comments

Any request for a public hearing shall include the following: (1) The name, address, and telephone number of the individual, organization, or other entity requesting a hearing; (2) a brief statement of the requesting person's interest in the RA's determination and of information that the requesting person intends to submit at such hearing; and (3) the signature of the individual making the request, or, if the request is made on behalf of an organization or other entity, the signature of the responsible official of the organization or other entity.

Notice of any hearing shall be given not less than fifteen (15) days prior to the time scheduled for the hearing. Such notice will be made by the RA in the Federal Register and in newspapers of general circulation in the State of Colorado. A notice will also be sent to the person(s) requesting the hearing as well as to the State of Colorado. The hearing notice will include a statement of purpose, information regarding time and location, and the address and telephone number where interested persons may obtain further information. A final determination will be made upon review of the hearing record.

Frivolous or insubstantial requests for a hearing may be denied by the RA. However, if a substantial request is made within thirty (30) days after this notice, a public hearing will be held.

Please bring this notice to the attention of any persons known by you to have an interest in this determination.

Dated: September 3, 2004.
Robert E. Roberts,
Regional Administrator, Region 8.

[FR Doc. 04-20974 Filed 9-16-04; 8:45 am]

BILLING CODE 6560-50-P